DEPARTMENT OF HEALTH AND HUMAN SERVICES

Administration for Children and Families

Submission for OMB Review; Generic for Administration for Children and Families (ACF) Program Monitoring Activities (New Collection)

AGENCY: Office of Planning, Research, and Evaluation, Administration for Children and Families (ACF), Health and Human Services (HHS).

ACTION: Request for public comment.

SUMMARY: The Administration for Children and Families (ACF) intends to request approval from the Office of Management and Budget (OMB) for a new generic clearance for information collections related to ACF program office monitoring activities. ACF programs promote the economic and social well-being of families, children, individuals, and communities. The proposed Generic for ACF Program Monitoring Activities would allow ACF program offices to collect standardized information from recipients that receive federal funds to ensure oversight, evaluation, support purposes, and stewardship of federal funds.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Program monitoring is a post-award process through which ACF assesses a recipient's programmatic performance and business management performance. Monitoring activities are necessary to ensure timely action by ACF to support grantees and protect federal interests.

Program offices would use information collected under this generic clearance to monitor funding recipient activities and to provide support or take appropriate action, as needed. The information gathered will be used primarily for internal purposes, but aggregate data may be included in public materials such as Reports to Congress or program office documents. Following standard OMB requirements, ACF will submit a request for each individual data collection activity under this generic clearance. Each request will include the individual form(s) or instrument(s), a justification specific to the individual information collection, and any supplementary documents. OMB is requested to review requests within 10 days of submission.

Respondents: ACF funding recipients.

Annual Burden Estimates
Instrument | Total number of respondents | Total number of responses per respondent | Average burden hour per response | Total burden hours
Program Monitoring Forms | 1500 | 3 | 10 | 45,000

John M. Sweet Jr.,
ACF/OPRE Certifying Officer.

[FR Doc. 2020-19811 Filed 9-4-20; 8:45 am]

BILLING CODE 4184-79-P